DEPARTMENT OF THE TREASURY

United States Mint

Notification of New Pricing Methodology for Numismatic Products Containing Platinum and Gold Coins; Correction

AGENCY: United States Mint.

ACTION: Notification of New Pricing Methodology for Numismatic Products Containing Platinum and Gold Coins; correction.

SUMMARY: The United States Mint published a document in the Federal Register of January 6, 2009, outlining the new pricing methodology for numismatic products containing platinum and gold coins. The document contained incorrect information regarding when pricing adjustments become effective.

FOR FURTHER INFORMATION CONTACT: B.B. Craig, Associate Director for Sales and Marketing; United States Mint; 801 Ninth Street, NW., Washington, DC 20220; or call 202-354-7500.

Correction

In the Federal Register of January 6, 2009, in FR Doc. E8-31424, on page 493, in the third column, replace the last sentence to read:

Price adjustments as a result of this process, if any, will be effective no later than 10 a.m. E.T. on the immediately following Thursday.

Dated: March 17, 2009.
Edmund C. Moy,
Director, United States Mint.

[FR Doc. E9-6151 Filed 3-19-09; 8:45 am]

BILLING CODE 4810-02-P